FEDERAL COMMUNICATIONS COMMISSION

47 CFR Part 73

[DA 00-1520; MM Docket No. 99-2157; RM-9337, RM-9892]

Radio Broadcasting Services; Mason, Menard and Fredericksburg, TX.

AGENCY: Federal Communications Commission.

ACTION: Final rule.

SUMMARY: At the request of BK Radio, Jayson and Janice Fritz, Foxcom, Inc., and Kent S. Foster, this document allots Channel 239C2, Channel 273C2, and Channel 289C2 to Mason, Texas. BK Radio may amend its pending application for Channel 281C2 at Mason, Texas, to specify operation on Channel 239C2 without loss of cut-off protection. Jayson and Janice Fritz may amend their pending application for Channel 281C2 at Mason, Texas, to specify operation on Channel 289C2 without loss of cut-off protection. Foxcom, Inc. may amend its pending application for Channel 281C2 at Mason, Texas, to specify operation on Channel 273C2 without loss of cut-off protection. This document also allots Channel 265C2 to Menard, Texas. See 64 FR 33237, published June 22, 1999. The reference coordinates for the Channel 265C2 allotment at Menard, Texas, are 30-44-00 and 99-44-00. The reference coordinates for the Channel 239C2 allotment at Mason, Texas, are 30-33-24 and 99-25-34. The reference coordinates for the Channel 289C2 allotment at Mason, Texas, are 30-31-40 and 99-07-51. The reference coordinates for the Channel 273C2 allotment at Mason, Texas, are 30-38-21 and 99-20-36. The reference coordinates for the Channel 281C2 allotment at Mason, Texas, are now 30-44-55 and 99-13-49. The counterproposal filed by Munbilla Broadcasting to allot Channel 249C2 to Fredricksburg, Texas will not be considered in this proceeding because it required each applicant to amend their respective application to specify operation on Channel 273C2 at Mason. This proposal would not comply with the separation requirements set forth in Section 73.207(b) of the Rules.

DATES: Effective September 5, 2000.

ADDRESSES: Federal Communications Commission, Washington, DC 20554.

FOR FURTHER INFORMATION CONTACT: Robert Hayne, Mass Media Bureau, (202) 418-2177.

SUPPLEMENTARY INFORMATION: This is a synopsis of the Commission's Report and Order in MM Docket No. 99-215, adopted June 28, 2000, and released July 7, 2000. The full text of this decision is available for inspection and copying during normal business hours in the FCC's Reference Information Center at Portals II, CY-A257, 445 12th Street, SW, Washington, D.C. The complete text of this decision may also be purchased from the Commission's copy contractor, International Transcription Service, Inc., (202) 857-3800, 1231 20th Street, NW, Washington, D.C. 20036.

List of Subjects in 47 CFR Part 73

Radio Broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Texas, is amended by adding Channel 239C2 at Mason.

3. Section 73.202(b), the Table of FM Allotments under Texas, is amended by adding Channel 289C2 at Mason.

4. Section 73.202(b), the Table of FM Allotments under Texas, is amended by adding Channel 273C2 at Mason.

5. Section 73.202(b), the Table of FM Allotments under Texas, is amended by adding Menard, Channel 265C2.

Federal Communications Commission.
John A. Karousos,
Chief, Allocations Branch, Policy and Rules Division, Mass Media Bureau.

[FR Doc. 00-18762 Filed 7-24-00; 8:45 am]

BILLING CODE 6712-01-P